DEPARTMENT OF COMMERCE

National Institute of Standards and Technology (NIST)

Information Collection Activities; Submission to the Office of Management and Budget (OMB) for Review and Approval; Comment Request; Baldrige Executive Fellows Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 16, 2021, during a 60-day comment period. This notice allows for an additional 30 days for public comments.

Agency: National Institute of Standards and Technology (NIST), Commerce.

Title: Baldrige Executive Fellows Program.

OMB Control Number: 0693-0076.

Form Number(s): None.

Type of Request: Regular, extension of current information collection.

Number of Respondents: 24 per year.

Average Hours per Response: 1 hour to gather materials.

Burden Hours: 24.

Needs and Uses: Collection needed to obtain information to select applicants for the Baldrige Executive Fellows Program, a professional development fellowship offered by the Baldrige Performance Excellence Program.

Affected Public: Business, health care, education, or other for-profit organizations; health care, education, and other non-profit organizations; and individuals.

Frequency: Annually.

Respondent's Obligation: Voluntary.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0693-0076.

Sheleen Dumas,
Department PRA Clearance Officer, Office of the Chief Information Officer, Commerce Department.

[FR Doc. 2022-01265 Filed 1-21-22; 8:45 am]

BILLING CODE 3510-13-P